DEPARTMENT OF TRANSPORTATION

Federal Transit Administration

FY 2024 Competitive Funding Opportunity: Enhancing Mobility Innovation

AGENCY: Federal Transit Administration (FTA), Department of Transportation (DOT).

ACTION: Notice of funding opportunity (NOFO).

SUMMARY: The Federal Transit Administration (FTA) announces the opportunity to apply for a total of $1,936,000 in Fiscal Year (FY) 2023 Public Transportation Innovation funds in competitive cooperative agreement awards for projects that enhance mobility innovations for transit. Funds will be awarded for projects that advance emerging technologies, strategies, and innovations in traveler-centered mobility in two distinct areas. Of the total available funds, $968,000 is available for projects to accelerate innovations that improve mobility and enhance the rider experience with a focus on innovative service delivery models, creative financing, novel partnerships, and integrated payment solutions. Another $968,000 is available for projects to develop software solutions that facilitate the provision of integrated demand-response public transportation service that dispatches public transportation fleet vehicles through riders' mobile devices or other means. Projects will be selected based on the criteria outlined in this notice. FTA may award additional funding that is made available to the program prior to the announcement of project selections.

DATES: Complete proposals must be submitted electronically through the GRANTS.GOV “APPLY” function by 11:59 p.m. Eastern time on August 30, 2024.

Prospective applicants should initiate the process by registering on the GRANTS.GOV website promptly to ensure completion of the application process before the submission deadline. Instructions for applying can be found on FTA's website at https://www.transit.dot.gov/howtoapply and in the “FIND” module of GRANTS.GOV. The funding opportunity ID is FTA-2024-010-TRI-EMI. Mail, fax, and email submissions will not be accepted.

FOR FURTHER INFORMATION CONTACT: Natalie Covill-Fontaine, FTA Office of Research, Demonstration and Innovation, phone: 202-366-7564, or email: n.covillfontaine@dot.gov.

SUPPLEMENTARY INFORMATION:

Table of Contents

A. Program Description

B. Federal Award Information

C. Eligibility Information

D. Application and Submission Information

E. Application Review Information

F. Federal Award Administration Information

G. Federal Awarding Agency Contacts

H. Other Information

Summary Overview of Key Information: Enhancing Mobility Innovation Competitive Funding Opportunity
Issuing Agency | Federal Transit Administration, U.S. Department of Transportation.
Program Overview | The Enhancing Mobility Innovation Competitive Funding Opportunity seeks projects that advance emerging technologies, strategies, and innovations in traveler-centered mobility in two areas:
| Concepts development and/or demonstration projects that improve mobility and enhance the rider experience, with a focus on innovative service delivery models, creative financing, novel partnerships, and integrated payment solutions; and
| Software development projects that facilitate the provision of demand-response public transportation services that dispatch public transportation fleet vehicles through riders' mobile devices or other advanced means.
Eligible Applicants | • Providers of public transportation, including public transportation agencies, state or local government DOTs, and federally recognized Indian tribes.
| • Private for-profit and not-for-profit organizations incorporated in a jurisdiction of the United States, including shared-use mobility providers, private operators of transportation services, technology system suppliers and integrators, bus or vehicle manufacturers or suppliers, software and technology developers, financial institutions, consultants, research consortia, and industry organizations.
| • State, city, or local government entities, including multi-jurisdictional partnerships and organizations such as Metropolitan Planning Organizations; or
| • Institutions of higher education, including large research universities, particularly those with Minority Serving Institution status.
Eligible Projects | Concepts Development and/or Demonstration Projects:
| • Activities may include all activities that advance promising technologies, practices, and strategies and accelerate innovations in mobility for transit, including, but not limited to, planning, acquiring essential equipment or services, project implementation, and evaluating project results.
| • For projects that develop novel operational concepts without a demonstration component, activities may include data collection, technology scanning and feasibility analysis, engagement and outreach, benefits and costs analysis, and modeling forecasts of proposed concepts' climate and equity impacts.
| Software Development Projects:
| • Activities may include establishing user needs, defining system requirements, development, validation, and verification of the software, modeling, and simulation, and/or pilot implementation with a software solution that can be demonstrated to FTA.
Funding Amount | Concepts Development and/or Demonstration Projects: $968,000.
| Software Development Projects: $968,000.
| Additional funds made available prior to project selection may be allocated to eligible projects.
Cost Share | The maximum Federal share of project costs under this program is 80 percent.
Deadline | August 30, 2024 at 11:59 p.m. Eastern Time.

A. Program Description

Under FTA's Public Transportation Innovation Program (49 U.S.C. 5312(b)), FTA may make grants or enter into contracts or cooperative agreements for research, development, demonstration, and deployment projects of national significance to public transportation. FTA developed this NOFO (Federal Assistance Listing: 20.530) under this authority. The Consolidated Appropriations Act, 2023 (Pub. L. 117-328) directs FTA to competitively fund $1,000,000 in cooperative agreements to accelerate innovations that improve mobility and enhance the rider experience and $1,000,000 in cooperative agreements for the development of software solutions to facilitate demand-response public transportation. After the required takedown of $32,000 per program, for $64,000 total for the two program areas, to support the U.S. Department of Transportation's Small Business Innovation Research (SBIR) program, a total of $1,936,000 is available under this notice.

Specifically, FTA is seeking projects that advance emerging technologies, strategies, and innovations in traveler-centered mobility in two distinct areas: (a) to develop novel operational concepts and/or demonstrate innovations that improve mobility and enhance the rider experience, with a focus on innovative service delivery models, creative financing, novel partnerships, and integrated payment solutions; and (b) to develop software solutions that facilitate the provision of demand-response public transportation service that dispatches public transportation fleet vehicles through riders' mobile devices or other advanced means.

These research efforts build upon over $46 million in prior FTA investments in mobility innovation through FTA's Mobility on Demand (MOD) Sandbox, the Integrated Mobility Innovation (IMI) Program, the Accelerating Innovative Mobility (AIM) Challenge Grant Initiative, and the previous Enhancing Mobility Innovation (EMI) funding opportunity. The EMI program seeks to continue the momentum of the over 68 previous projects to provide safe, reliable, equitable, accessible, and carefree mobility for all travelers. This NOFO also advances the goals of Executive Order 13990, “Protecting Public Health and the Environment and Restoring Science to Tackle the Climate Crisis” (86 FR 7037).

B. Federal Award Information

To ensure the most impactful projects for each project area, FTA is seeking projects with a minimum award amount of $400,000. FTA anticipates awarding two to four projects under this funding opportunity. Due to funding limitations, applicants that are selected for funding may receive less than the requested amount. Only proposals from eligible recipients for eligible activities will be considered for funding.

Pre-award authority is subject to FTA approval and is only available for costs incurred after the announcement of project selections on FTA's website. See the description of pre-award authority further down in this notice.

Projects under this competition are for research and development efforts and, as such, FTA Research Circular 6100.1E (available at https://www.fta.dot.gov/regulations-and-guidance/fta-circulars/research-technical-assistance-and-training-program) guidance will apply in administering the program.

An applicant whose proposal is selected for funding will receive a cooperative agreement award with FTA to be administered according to Circular 6100.1E and as set forth in 31 U.S.C. 6305. FTA will have substantial involvement in the administration of the cooperative agreement. FTA's role includes the right to participate in decisions to redirect and reprioritize project activities, goals, and deliverables.

C. Eligibility Information

1. Eligible Applicants

Eligible applicants under this notice are:

• Providers of public transportation, including public transportation agencies, state or local government DOTs, and federally recognized Indian tribes.

• Private for-profit and not-for-profit organizations incorporated in a jurisdiction of the United States, including shared-use mobility providers, private operators of transportation services, technology system suppliers and integrators, bus or vehicle manufacturers or suppliers, software and technology developers, financial institutions, consultants, research consortia, and industry organizations.

• State, city, or local government entities, including multi-jurisdictional partnerships, and organizations such as metropolitan planning organizations; or

Institutions of higher education, including large research universities, particularly those with Minority Serving Institution status.

• Eligibility is limited to United States entities.

On the application form, eligible applicants are encouraged to identify one or more project partners with a substantial interest and involvement in the project to participate in the implementation of the project. Eligible applicants that are not providers of public transportation are encouraged to identify in the application at least one provider of public transportation as a project partner.

If an application that involves such a partnership is selected for funding, the competitive selection process will be deemed to satisfy the requirement for a competitive procurement under 49 U.S.C. 5325(a) for the named entities. Applicants are advised that any changes to the proposed partnership will require FTA written approval, must be consistent with the scope of the approved project, and may necessitate a competitive procurement. FTA encourages applicants to thoroughly vet potential partners before applying, as changes in key project partners could result in project termination.

The applicant must be able to carry out the proposed agreement and procurements, if needed, with project partners in compliance with all applicable Federal, state, and local laws.

To be considered eligible, applicants must be able to demonstrate the requisite legal, financial, and technical capabilities to receive and administer Federal funds under this program.

2. Cost Sharing or Matching

The maximum Federal share of project costs under this program is 80 percent. Applicants may seek a lower Federal contribution. The applicant must provide the non-Federal share of the net project cost in cash or in-kind and must document in its application the source of the non-Federal match. Eligible sources of non-Federal match are detailed in FTA Circular 6100.1E.

3. Eligible Projects

This notice solicits applications in two topical areas: (a) projects that develop novel operational concepts and/or demonstrate innovations that improve mobility and enhance the rider experience, with a focus on innovative service delivery models, creative financing, novel partnerships, integrated payment solutions, or other innovative solutions; and (b) projects that develop software to facilitate the provision of demand-response public transportation service that dispatches public transportation fleet vehicles through riders' mobile devices or other advanced means. Applicants must clearly indicate on the supplemental form the topical area for which the application is seeking funding.

FTA seeks applications for projects that enhance the current state of mobility innovation research or build on existing successful projects and partnership efforts, including previously awarded Enhancing Mobility Innovation projects.

For illustrative purposes, some examples of project research areas include novel data approaches for improved service delivery; data-driven tools and strategies to predict and influence traveler behavior; projects that encourage climate-smart choices and/or provide personalized mobility options to travelers; payment systems and solutions that enhance integrated mobility management and interoperability across a variety of modes; mobility payment integration with dynamic pricing strategies; and novel approaches for providing more effective transportation and mobility options in underserved communities.

a. Concepts Development and/or Demonstration Projects

For this topical area, eligible activities may include all activities that advance promising technologies, practices, and strategies and accelerate innovations in mobility for transit, including, but not limited to, planning, acquiring essential equipment or services, project implementation, and evaluating project results.

For projects that develop novel operational concepts without a demonstration component, eligible project activities may include data collection, technology scanning and feasibility analysis, engagement and outreach, benefits and costs analysis, and modeling forecasts of proposed concepts' climate and equity impacts.

b. Software Development Projects

For this topical area, eligible activities may include establishing user needs, defining system requirements, development, validation, and verification of the software, modeling, and simulation, and/or pilot implementation with a software solution that can be demonstrated to FTA. Software products developed will be subject to the provisions of FTA's most recent Master Agreement available at https://www.transit.dot.gov/funding/grantee-resources/sample-fta-agreements/fta-grant-agreements and may be disseminated to public transit agencies for their use. Software developed under this program should be interoperable, adaptable, secure, and able to be seamlessly integrated into other transportation and transit management systems. The project team should also consider how the development effort supports the development or use of open standards, specifications, or protocols. FTA will evaluate the potential for software developed under this NOFO to be shared for use by public transportation agencies.

FTA intends to advance innovations that are of national significance and can benefit transit agencies, cities, and communities across the United States. As such, project teams should consider how to structure development efforts to ensure the resulting research outputs are broadly relevant and can lead to adoption or use by other transit agencies or transportation providers.

D. Application and Submission Information

1. Address To Request Application

Applications must be submitted electronically through GRANTS.GOV. General information for submitting applications through GRANTS.GOV can be found at https://www.transit.dot.gov/howtoapply. Applications must be made using the Standard Form 424 (SF-424), which can be downloaded from GRANTS.GOV. The supplemental form for the FY 2024 Enhancing Mobility Innovation NOFO and the project overview template can be downloaded from GRANTS.GOV or the FTA website at https://www.transit.dot.gov/funding/grants/EMI. Failure to submit the information as requested can delay review or disqualify the application.

2. Content and Form of Application Submission

a. Proposal Submission

General information for submitting applications, along with specific instructions for the forms and attachments required for submission, can be found at GRANTS.GOV. A complete proposal submission must consist of (1) the SF-424 Application for Federal Assistance, (2) the supplemental form, and (3) the project overview in Microsoft Word, PDF, or a compatible file format that addresses the required elements contained in this notice. The project overview should be in the format outlined in the “Application Content” section. The supplemental form, project overview, and any supporting documents must be attached to the “Attachments” section of the SF-424. The application must include responses to all sections of the SF-424 Application for Federal Assistance, the supplemental form, and the project overview unless indicated as optional.

The information on the supplemental form and project overview will be used to determine applicant and project eligibility for the program and to evaluate the proposal against the selection criteria described in Section E of this notice. If an applicant chooses to apply for both topical areas ((a) concepts development and/or demonstration, and (b) software development), the applicant must submit separate proposals for individual consideration by FTA, with a separate SF-424 supplemental form, and project overview for each project area.

FTA will accept only one supplemental form and one project overview per SF-424 submission. Applicants may attach additional supporting information to the SF-424 submission, including but not limited to letters of support, project budgets, visual aids, excerpts from relevant planning documents, or project narratives. Any supporting documentation must be described and referenced by file name in the appropriate response section of the supplemental form, or it may not be reviewed.

Information such as applicant name, Federal amount requested, local match amount, and description of areas served may be requested in varying degrees of detail on both the SF-424 and supplemental form. Applicants must fill in all fields unless stated otherwise on the forms. If information is copied into the supplemental form from another source, applicants should verify that pasted text is fully captured on the supplemental form and has not been truncated by the character limits built into the form. Applicants should use both the “Check Package for Errors” and the “Validate Form” validation buttons on both forms to check all required fields on the forms and ensure that the Federal and local amounts specified are consistent.

b. Application Content

The SF-424 Application for Federal Assistance and the supplemental form will prompt applicants for required information, including:

1. Applicant name.

2. Unique entity identifier (UEI) (generated by SAM.GOV)

3. Key contact information (including name, address, email address, and phone).

4. Congressional district(s) where the project will take place.

5. Project information (including title, executive summary, and type).

6. Information on areas served by the project, including the current state of public transportation and mobility in the area served.

7. A detailed description of the project and how it will either (a) advance innovative mobility technologies that focus on innovative service delivery models, creative financing, novel partnerships, integrated payment solutions, or other innovative solutions or (b) develop interoperable software solutions to facilitate the provision of demand-response public transportation service.

8. A description of each innovative technology, practice, or strategy proposed as part of the project scope.

9. A description of project benefits, including the national significance of the project to advance innovative, carefree mobility solutions and how the project may advance climate-smart solutions and equity.

10. Information on any project partners, their roles, and anticipated contributions.

11. A description of the project implementation strategy, including a description of the approach to data, data access, and project evaluation, and how the project will support the Department of Transportation's public data access requirements.

12. A description of the technical, legal, and financial capacity of the applicant and all named partners.

13. A detailed project budget specifying Federal and local share. Project budgets should show how different funding sources will share in each activity and present the data in dollars and percentages. The budget should identify other Federal funds the applicant is applying for, has been awarded, or intends to use. Funding sources should be grouped into three categories: non-Federal, current application Enhancing Mobility Innovation, and other Federal with specific amounts for each funding source.

14. Information on source of matching funds for the project's local cost share.

15. A description of the scalability of the project, including minimum Federal Funds necessary to complete the project in case of limited funding.

16. A detailed project timeline, including all proposed project milestones.

The project overview should be submitted as a one-page document in Microsoft Word, PDF, or other compatible file format and should follow the template that can be downloaded at GRANTS.GOV and https://www.transit.dot.gov/funding/grants/EMI. The project overview should include a header with the project title and lead applicant and a brief description (two to three sentences or bullet points) of the following four project areas: (1) innovation, including how the proposed innovative technology, strategy, or practice compares to state of the art; (2) benefits and potential impact; (3) team and partners, including the roles of key personnel and project partners; and (4) approach, including expected project accomplishments and proposed measures of success.

3. Unique Entity Identifier and System for Award Management (SAM)

Each applicant is required to (1) be registered in SAM.GOV before submitting an application; (2) provide a valid unique entity identifier in its application; and (3) continue to always maintain an active SAM.GOV registration with current information while the applicant has an active Federal award, application, or plan under consideration by FTA. FTA may not award until the applicant has complied with all applicable unique entity identifier and SAM.GOV requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d).

SAM.GOV registration takes approximately 3-5 business days, but FTA recommends allowing ample time, up to several weeks, for completion of all steps. For additional information on obtaining a unique entity identifier, please visit https://www.sam.gov.

4. Submission Dates and Times

Project proposals must be submitted electronically through GRANTS.GOV by 11:59 p.m. Eastern Time on August 30, 2024. GRANTS.GOV attaches a time stamp to each application at the time of submission. Proposals submitted after the deadline will only be considered under extraordinary circumstances and not under the applicant's control. Mail, fax, and email submissions will not be accepted.

FTA urges applicants to submit applications at least 72 hours prior to the due date to allow time to receive the validation messages and to correct any problems that may have caused a rejection notification. GRANTS.GOV scheduled maintenance and outage times are announced on the GRANTS.GOV website. Deadlines will not be extended due to scheduled website maintenance.

Within 48 hours after submitting an electronic application, the applicant should receive an email message from GRANTS.GOV with confirmation of successful transmission. If a notice of failed validation or incomplete materials is received, the applicant must address the reason for the failed validation, as described in the email notice, and resubmit before the submission deadline. If making a resubmission for any reason, the applicant must include all original attachments regardless of which attachments were updated and check the box on the supplemental form indicating this is a resubmission.

Applicants are encouraged to begin the registration process on the GRANTS.GOV site well in advance of the submission deadline. Registration is a multi-step process, which may take several weeks to complete before an application can be submitted. Registered applicants may still be required to take steps to keep their registration up to date before submissions can be made successfully: (1) registration in SAM must be renewed annually, and (2) persons making submissions on behalf of the Authorized Organization Representative (AOR) must be authorized in GRANTS.GOV by the AOR to make submission. If the applicant encounters system problems or technical difficulties using the GRANTS.GOV website, the applicant should address those technical issues to GRANTS.GOV.

5. Funding Restrictions

Refer to Section C.3., Eligible Projects, for information on allowable activities. Allowable direct and indirect expenses must be consistent with the Governmentwide Uniform Administrative Requirements and Cost Principles (2 CFR part 200) and FTA Circular 5010.1E (https://www.transit.dot.gov/research-innovation/circular-5010).

Funds available under this NOFO cannot be used to reimburse applicants for otherwise eligible expenses incurred prior to FTA issuing pre-award authority for selected projects.

6. Scaled Funding Options

Applicants are encouraged to identify scaled funding options in case insufficient funding is available to fund a project at the full requested amount. If an applicant indicates that a project is scalable, the applicant must provide an appropriate minimum funding amount that will fund an eligible project that achieves the objectives of the program and meets all relevant program requirements. The applicant must provide a clear explanation of how the project budget would be affected by a reduced award. FTA may award a lesser amount regardless of whether a scaled option is provided.

E. Application Review Information

1. Criteria

Projects will be evaluated primarily on the responses provided in the supplemental form and project overview. Additional information may be provided to support the responses; however, any additional documentation must be directly referenced on the supplemental form, including the file name where the additional information can be found. FTA will evaluate proposals based on the criteria described in this notice.

If an applicant is proposing to deploy autonomous vehicles or other innovative motor vehicle technology, the application should demonstrate that all vehicles will comply with applicable safety requirements, including those administered by the National Highway Traffic Safety Administration (NHTSA) and the Federal Motor Carrier Safety Administration (FMCSA). Specifically, the application should show that vehicles acquired for the proposed project will comply with applicable Federal Motor Vehicle Safety Standards (FMVSS) and Federal Motor Carrier Safety Regulations (FMCSR). If the vehicles do not comply, the application should either (1) show that the vehicles and their proposed operations are within the scope of an exemption or waiver that has already been granted by NHTSA, FMCSA, or both agencies or (2) directly address whether the project will require exemptions or waivers from the FMVSS, FMCSR, or any other regulation and, if the project will require exemptions or waivers, present a plan for obtaining them.

a. Demonstration of Innovation

FTA is seeking projects focused on the next iteration of the most promising technologies, practices, and strategies to accelerate innovations in mobility for public transportation. Projects will be evaluated on the extent to which they develop and deploy novel, innovative, or transformative mobility technologies and solutions and advance the state of the practice. A proposal should clearly identify a specific innovative premise and should provide a description of how it compares to the current state of the art. FTA will assess the extent to which the applicant uses innovative strategies, including (i) innovative technologies, (ii) innovative financing, or (iii) innovative operations to advance mobility innovation that produces climate-smart and equitable outcomes.

b. Demonstration of Benefits

The application should demonstrate how the proposed project will accelerate the transit industry's ability to implement new technologies, operational innovations, approaches, or service models that support safe, equitable, and climate-smart mobility options for all travelers. FTA will evaluate proposals based on their capacity to accelerate the development and adoption of innovative technologies, practices, and service models to improve mobility and enhance the rider experience, better position transit agencies to adapt to unprecedented operational challenges, and meet evolving traveler expectations.

FTA will consider the extent to which each proposal will advance the transit industry by producing knowledge of national significance that advances the state of the practice for public transportation in the United States; advances technologies, innovations, practices, or partnership models that are relevant and replicable; leverages private sector innovation; advances robust, replicable business models and sustainable public private partnerships; and advances tools or approaches that enable transportation system carbon reductions and promote equity.

FTA welcomes integrated mobility projects that embrace a holistic view of multimodal mobility that centers and supports public transportation. FTA encourages applicants to consider integrated mobility from the perspectives of system owners, operators, and travelers. FTA seeks projects that produce novel, bold, and yet realistic concepts to accelerate the transformation of integrated mobility and public transportation, influence traveler behavior, and produce meaningful and lasting impacts on climate and equity.

For software development projects, FTA will consider the extent to which the development results in robust, interoperable, and adaptable software-based solutions for demand-response transit service dispatched through riders' mobile devices or other advanced means. Additionally, software development projects will be assessed on the extent to which the development effort will support strategies for the use of open standards, specifications, or protocols and would permit the software to be shared for use by public transportation agencies.

c. Project Team and Partnerships

The application should identify the team that will carry out the proposed project, including key personnel and all project partners. FTA will evaluate the extent to which the project team has the necessary expertise, collaboration, and capacity to successfully implement the project and to which the project contains strong, cohesive partnerships.

Applicants must identify all project partners and their specific roles. Applications should describe how project partners plan to work collaboratively and should show evidence of strong commitment and cooperation among project partners through letters of support or agreements among the partners. Applications should describe how partners will participate in each aspect of project planning, implementation, and evaluation. FTA will also evaluate the experience, capacity, and demonstrated commitment of the named project partners as pertains to successful implementation of the proposed project. Applicants are advised to submit information on the partners' qualifications and experience as a part of the application. Applicants that are not providers of public transportation are encouraged to identify in the application at least one provider of public transportation as a project partner. Entities who will be involved in the project but not named in the application will be required to be selected through a competitive procurement unless an exception to competition requirements applies.

d. Local Financial Commitment

Applicants must identify the source of the non-Federal cost share and describe whether such funds are currently available for the project or will need to be secured if the project is selected for funding. FTA will consider the availability of the non-Federal cost share as evidence of the applicant's financial commitment to the project, including whether non-Federal funds have already been made available or reserved. Applicants should submit evidence of the availability of funds for the project, for example, by including a board resolution, a letter of support from the State, a budget document highlighting the line item or section committing funds to the proposed project, or other documentation of the source of non-Federal funds.

e. Project Implementation Strategy

The application should explain the applicant's approach to carrying out the project, including all necessary project milestones and the overall project timeline. Projects will be evaluated based on the extent to which the applicant's proposed implementation plans are reasonable and complete. To assess whether the implementation plans are reasonable and complete, FTA will review and consider the project milestones, timeline, budget, risks to implementation, and how well the project implementation plan addresses these risks. FTA will also consider if the project's implementation strategy addresses how the project will support data access and sharing of project results and project evaluation against mobility-specific metrics. For projects that will require formal coordination, approvals, or permits from government agencies or project partners, the applicant must demonstrate coordination with these organizations and their support for the project, such as through letters of support.

f. Technical, Legal, and Financial Capacity

FTA will evaluate proposals on the capacity of the project applicant and all partners to successfully execute the project. Demonstrated experience by the project applicant or project partners in successfully implementing a mobility innovation development and demonstration project will be considered.

FTA may review relevant oversight assessments and records to determine whether the applicant has any outstanding legal, technical, or financial issues that would affect the proposed project's outcome. Applicants with outstanding legal, technical, or financial compliance issues from an FTA compliance review or grant-related Single Audit finding must explain how corrective actions will mitigate negative impacts on the proposed project.

For applications that include named project partners, FTA will also consider the technical, legal, and financial capacity of the partner to successfully implement the proposed project. Applicants are advised to submit information on the partners' qualifications and experience as part of the application.

2. Review and Selection Process

A technical evaluation committee made up of federal staff will evaluate proposals based on the published evaluation criteria. FTA may request additional information from applicants if necessary. Based on the findings of the technical evaluation committee, the FTA Administrator will determine the final selection of projects for funding.

Consistent with Executive Order 13990, which aims to promote clean energy, conservation, and environmental justice; emphasizes scientific integrity and evidence-based decision-making; and aligns with goals to mitigate climate change and prioritize environmental sustainability, the selecting official will consider applications that may promote these key priorities as part of the application review.

In determining the allocation of program funds, FTA may consider geographic diversity, diversity in the size of the grant recipients receiving funding, or the applicant's receipt of other competitive awards, among other factors. FTA may also consider capping the amount a single applicant may receive.

Prior to making an award, FTA is required to review and consider any information about the applicant that is in the Federal Awardee Performance Integrity Information System (FAPIIS) accessible through SAM. An applicant may review and comment on any information about itself that a Federal awarding agency previously entered. FTA will consider any comments by the applicant, in addition to the other information in the designated integrity and performance system, in making a judgment about the applicant's integrity, business ethics, and record of performance under Federal awards when completing the review of risk posed by applicants as described in the Office of Management and Budget's Uniform Requirements for Federal Awards (2 CFR 200.205).

F. Federal Award Administration Information

1. Federal Award Notices

FTA will announce the final project selections on the FTA website. Due to funding limitations, applicants that are selected for funding may receive less than the amount originally requested. In those cases, applicants must be able to demonstrate that the proposed projects are still viable and can be completed with the amount awarded.

2. Administrative and National Policy Requirements

a. Pre-Award Authority

At the time the project selections are announced, FTA may extend pre-award authority for the selected projects. There is no blanket pre-award authority for these projects before announcement. FTA will issue specific guidance to recipients regarding pre-award authority at the time of selection. FTA does not consider requests for pre-award authority for competitive funds until after projects are selected, and additional Federal requirements must be met before costs are incurred. For more information about FTA's policy on pre-award authority, please see the most recent Apportionments, Allocations, and Program Information Notice at https://www.transit.dot.gov/funding/apportionments.

b. Cooperative Agreement Requirements

If selected, awardees will apply for a cooperative agreement through FTA's Transit Award Management System (TrAMS). Successful applicants must be prepared to submit a complete statement of work and application in TrAMS within 90 days of notification of award. All recipients must follow the requirements of FTA Circular 6100.1E. Technical assistance regarding these requirements is available from FTA.

Awardees must disburse funds from their cooperative agreement using DOT's Delphi system. Drawdowns using ECHO are prohibited. FTA staff are available to assist awardees in gaining access to and using the Delphi system.

c. Buy America and Domestic Preferences for Infrastructure Projects

As expressed in Executive Order 14005, “Ensuring the Future Is Made in All of America by All of America's Workers” (86 FR 7475), the Executive Branch should maximize, consistent with law, the use of goods, products, and materials produced in, and services offered in, the United States. Therefore, all capital procurements must comply with FTA's Buy America requirements (49 U.S.C. 5323(j)), which require that all iron, steel, and manufactured products be produced in the United States. In addition, any award must comply with the Build America, Buy America Act (BABA) (Pub. L. 117-58, sections 70901-27). BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

d. Disadvantaged Business Enterprise

FTA requires that its recipients receiving planning, capital, or operating assistance that will award prime contracts exceeding $250,000 in FTA funds in a Federal fiscal year comply with the U.S. Department of Transportation's Disadvantaged Business Enterprise (DBE) program regulations (49 CFR part 26). If an applicant also receives FTA planning, capital, or operating assistance, it should expect to include any funds awarded, excluding those to be used for vehicle procurements, in setting its overall DBE goal. Note, however, that projects, including vehicle procurements, remain subject to the DBE program regulations.

e. Standard Assurances

If an applicant receives an award, the applicant must assure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

f. Data Access and Data Sharing

FTA seeks to improve America's communities through public transportation by sharing digital data or source code collected or developed through its research with the public. This allows research organizations, public transportation agencies, state DOTs, and others to learn from and expand upon the insights developed from FTA-funded research.

An award made pursuant to this NOFO will be subject to the latest version of FTA's Master Agreement (available at https://www.transit.dot.gov/funding/grantee-resources/sample-fta-agreements/fta-grant-agreements), including Section 17 Patent Rights and Section 18 Rights in Data and Copyrights. All work funded under this NOFO must follow the Department's data collection and sharing policies outlined in the DOT Public Access Plan at: https://www.transportation.gov/mission/open/official-dot-public-access-plan-v11. Recipients are required to include these obligations in any sub-awards or other related funding agreements.

Public Data Access requirements include developing a Data Management Plan (DMP) and submitting the DMP for FTA review. A DMP is a document that describes how recipients plan to handle digital datasets, software, or code generated over the course of a research project pursuant to Federal and Departmental requirements. A DMP must be provided as a condition of receiving FTA funds under the Section 5312 Research Program and should adequately identify (1) the data to be collected, (2) how the data will further the goals of this effort, (3) how the data will be made accessible, and (4) how the data will be stored. DMPs can be updated over time if the scope of the project or the type of data that will be collected changes.

FTA staff is available to assist recipients with complying with public data access requirements.

g. External Communications

Recipients must communicate with their FTA project manager prior to engaging in any external communications regarding their project. This includes any work developing news or magazine stories with media organizations, including print, video, online, or otherwise. Additionally, the FTA project manager must be notified if project information, including results and metrics, will be shared during a webinar or other presentation open to the public, produced either by the recipient itself or another organization. Recipients should consult with their FTA project manager at the beginning of their agreement to discuss and plan any external communications about their project.

h. Independent Evaluation

Projects funded under this announcement may be subject to evaluation by an independent evaluator selected by FTA. Recipients may be required to coordinate with the independent evaluator to assist in developing an evaluation plan and collecting, storing, and managing data required to fulfill that evaluation plan.

i. Mobility Metrics

Projects funded under this notice will be required to support the efforts of FTA or its designee to evaluate the project and its outcomes against mobility-specific metrics. FTA will work with the project team to implement evaluation plans that are consistent with FTA's mobility-specific metrics as detailed in the FTA report, Mobility Performance Metrics (MPM) For Integrated Mobility and Beyond (February 2020), available at https://www.transit.dot.gov/sites/fta.dot.gov/files/docs/research-innovation/147791/mobility-performance-metrics-integrated-mobility-and-beyond-fta-report-no-0152.pdf.

j. Software Provisions

Any software developed as a part of this solicitation will be subject to provisions of FTA's Master Agreement related to patent rights and rights in data and copyrights and may be disseminated to public transit agencies for their use.

3. Reporting

Post-award reporting requirements include the electronic submission of Federal Financial Reports and Milestone Progress Reports in FTA's electronic grants management system, TrAMS. Applicants should include any goals, targets, and indicators referenced in their application in the Executive Summary of the TrAMS application.

As part of completing the annual certifications and assurances required of FTA grant recipients, a successful applicant must report on the suspension or debarment status of itself and its principals. If the award recipient's active grants, cooperative agreements, and procurement contracts from all Federal awarding agencies exceed $10,000,000 for any period during the period of performance of an award made pursuant to this Notice, the recipient must comply with the Recipient Integrity and Performance Matters reporting requirements described in Appendix XII to 2 CFR part 200.

4. Termination for Failure To Make Progress on an Award

After providing written notice to the recipient of a project selected for funding, FTA may withdraw its support for the selected project if a cooperative agreement has not yet been awarded or suspend or terminate all or any part of the federal assistance for the award if the recipient has failed to make reasonable progress implementing the project.

G. Federal Awarding Agency Contacts

For further information concerning this notice, please contact Natalie Covill-Fontaine, FTA Office of Research, Demonstration, and Innovation, by phone at 202-366-7564 or by email at n.covillfontaine@dot.gov. A TDD is available for individuals who are deaf or hard of hearing at 800-877-8339. In addition, FTA may post answers to questions and requests for clarifications on FTA's website at https://www.transit.dot.gov/funding/grants/EMI. To ensure applicants receive accurate information about eligibility or the program, applicants are encouraged to contact FTA directly rather than through intermediaries or third parties. FTA staff may also conduct briefings on the FY 2024 competitive grants selection and award process upon request.

For issues with GRANTS.GOV, please contact GRANTS.GOV by phone at 1-800-518-4726 or by email at support@grants.gov.

H. Other Information

This program is not subject to Executive Order 12372, “Intergovernmental Review of Federal Programs.”

The Department may share application information within the Department or with other Federal agencies if the Department determines that sharing is relevant to the respective program's objectives. All applications and supporting materials submitted to FTA will become the records of FTA. If an applicant submits information the applicant considers to be a trade secret or confidential commercial or financial information, the applicant must provide that information in a separate document, which the applicant may cross-reference from the application narrative or other portions of the application. For the separate document containing confidential information, the applicant must state on the cover of the document that it “Contains Confidential Business Information (CBI),” mark each page that contains confidential information with “CBI,” and highlight or otherwise identify the confidential content on each page. FTA will protect confidential information, complying with these requirements to the extent required under applicable law. If FTA receives a Freedom of Information Act (FOIA) request for the information that the applicant has marked in accordance with this section, FTA will follow the procedures described in U.S. DOT's FOIA regulation at 49 CFR 7.29. Only information that is in the separate document, marked in accordance with this section, and ultimately determined to be confidential under section 7.29 will be exempt from disclosure under FOIA.

Veronica Vanterpool,
Acting Administrator.

[FR Doc. 2024-14429 Filed 6-28-24; 8:45 am]

BILLING CODE 4910-57-P